DEPARTMENT OF DEFENSE

Office of the Secretary

Board of Regents, Uniformed Services University of the Health Sciences; Notice of Federal Advisory Committee Meeting

AGENCY: Uniformed Services University of the Health Sciences (USU), DoD.

ACTION: Quarterly meeting notice.

SUMMARY: The Department of Defense is publishing this notice to announce the following meeting of the Board of Regents, Uniformed Services University of the Health Sciences (“the Board”). This meeting will be partially closed to the public.

DATES: Tuesday, February 4, 2014, from 8:00 a.m. to 11:45 a.m. (Open Session) and 11:45 a.m. to 12:45 p.m. (Closed Session).

ADDRESSES: Val G. Hemming Simulation Center, 2460 Linden Lane, Bldg 163, Silver Spring, MD 20910.

FOR FURTHER INFORMATION CONTACT: S. Leeann Ori, Designated Federal Officer, 4301 Jones Bridge Road, D3011, Bethesda, Maryland 20814; telephone 301-295-3066; email sherri.ori@usuhs.edu.

SUPPLEMENTARY INFORMATION: This meeting notice is being published under the provisions of the Federal Advisory Committee Act of 1972 (5 U.S.C., Appendix, as amended), the Government in the Sunshine Act of 1976 (5 U.S.C. 552b, as amended), and 41 CFR 102-3.150.

Purpose of the Meeting: The purpose of the meeting is to review the operations of USU, particularly the academic affairs, and provide advice to the USU President and the Assistant Secretary of Defense for Health Affairs. These actions are necessary for the University to pursue its mission, which is to provide outstanding healthcare practitioners and scientists to the uniformed services, and to obtain institutional accreditation.

Agenda: The actions that will take place include the approval of minutes from the Board of Regents Meeting held on October 23, 2013; recommendations regarding the approval of faculty appointments and promotions; recommendations regarding the awarding of master's and doctoral degrees in the biomedical sciences and public health; and the approval of awards and honors. The USU President will provide a report on recent actions affecting academic and operations of the University; the Vice President for Research will provide a semiannual report on research activities and funding for research at the University; the Vice President for Affiliations and International Affairs will report on the University's international affiliations; USU officials will provide various academic and administrative information; the School of Medicine will provide a briefing on a long-term career study which tracks the careers of graduates of the program; and the Veteran Metrics Initiative will provide a brief on their organization. A closed session will be held to discuss personnel actions and active investigations.

Meeting Accessibility: Pursuant to Federal statute and regulations (5 U.S.C. 552b and 41 CFR 102-3.140 through 102-3.165) and the availability of space, the meeting is open to the public from 8:00 a.m. to 11:45 a.m. Seating is on a first-come basis. Members of the public wishing to attend the meeting should contact S. Leeann Ori at the address and phone number noted in the FOR FURTHER INFORMATION CONTACT section.

Pursuant to 5 U.S.C. 552b(c)(2, 5-7) the Department of Defense has determined that the portion of the meeting from 11:45 a.m. to 12:45 p.m. shall be closed to the public. The Acting Under Secretary of Defense (Personnel and Readiness), in consultation with the Office of the DoD General Counsel, has determined in writing that a portion of the committee's meeting will be closed as the discussion will disclose sensitive personnel information, will include matters that relate solely to the internal personnel rules and practices of the agency, will involve accusing a person of a crime or censuring an individual, and may disclose investigatory records compiled for law enforcement purposes.

Written Statements: Interested persons may submit a written statement for consideration by the Board. Individuals submitting a written statement must submit their statement to the Designated Federal Officer at the address listed above in the FOR FURTHER INFORMATION CONTACT seection. If such statement is not received at least 5 calendar days prior to the meeting, it may not be provided to or considered by the Board of Regents until a later date. The Designated Federal Officer will compile all timely submissions with the Board's Chairman and ensure such submissions are provided to Board Members before the meeting.

Dated: January 9, 2014.
Aaron Siegel,
Alternate OSD Federal Register Liaison Officer, Department of Defense.

[FR Doc. 2014-00488 Filed 1-14-14; 8:45 am]

BILLING CODE 5001-06-P